DEPARTMENT OF JUSTICE

Notice of Lodging of Consent Decree Under the Comprehensive Environmental Response, Compensation, and Liability Act of 1980

Under 28 CFR 50.7, notice is hereby given that on July 26, 2004, a proposed consent decree in United States v. Leonard Chemical Company, Inc. et al., Civil Action No. 0 04 2479 10, was lodged with the United States District Court for the District of South Carolina.

In this action the United States sought under Sections 106 and 107 of the Comprehensive Environmental Response, Compensation, and Liability Act, 42 U.S.C. §§ 9606 and 9607 injunctive relief against the defendants Leonard Chemical Company, Inc. and its president, Lawrence K. Leonard, as the alleged owner operator of a hazardous waste facility known as the Leonard Chemical Company, Inc. Superfund Site (“the Site”) located in York County, South Carolina, and 11 corporate defendants, General Electric Company, Coleman Cable, Inc., K2, Inc., BASF Corporation Company, Inc., State Line Printing Company, Inc., Textron, Inc., Rexham, Inc., DMC, Inc., Springs Industries, Inc., and The Stanley Works, generators who are alleged to have arranged for their respective waste containing hazardous substances to be disposed of by the subject facility, for the remediation and cleanup of pollution released into the soil and groundwater at the Site. In addition, the federal government sought to recover from the defendants, the costs incurred by the federal government in addressing the release of hazardous substances at the facility. The proposed consent decree provides that the corporate generators will implement a Remedial Design/Remedial Action (“RD/RA”) selected by the United States Environmental Protection Agency, Region 4 to address impacted soils and groundwater at a facility and the owner operator will implement necessary institutional restrictions required under the RD/RA. Additionally, the corporate generators have also agreed under the proposed consent decree to pay EPA's past costs.

The Department of Justice will receive for a period of thirty (30) days from the date of this publication comments relating to the consent decree. Comments should be addressed to the Assistant Attorney General, Environment and Natural Resources Division, P.O. Box 7611, U.S. Department of Justice, Washington, DC 20044-7611, and should refer to United States v. Leonard Chemical Company, Inc. et al., D.J. Ref. No. 90-11-2-1174.

The consent decree may be examined at the Office of the United States Attorney, 1st Union Bldg., 1441 Main Street Suite 500, Columbia, South Carolina 29201, and at U.S. EPA Region 461 Forsyth Street, SW., Atlanta, GA 30303-8960. During the public comment period, the consent decree, may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $83.75 for the consent decree and its exhibits (25 cents per page reproduction cost) payable to the U.S. Treasury. A copy of the consent decree exclusive of any exhibits may be obtained for $26.05.

Ellen Mahan,
Assistant Chief, Environmental Enforcement Section, Environment and Natural Resources Division.

[FR Doc. 04-19978 Filed 9-1-04; 8:45 am]

BILLING CODE 4410-15-M